DEPARTMENT OF TRANSPORTATION

Federal Highway Administration

Environmental Impact Statement: Caddo Parish, Louisiana

AGENCY: Federal Highway Administration (FHWA), DOT.

ACTION: Revised Notice of Intent.

SUMMARY: The FHWA is issuing this revised notice of intent to advise the public of modifications to the I-49 Inner City Connector Environmental Impact Statement (EIS). The previous notice of intent described the I-49 Inner City Connector as an approximate 3.8 mile new freeway designed to connect existing I-49 to future I-49 North at its proposed junction with I-220 in Shreveport, Louisiana. During the public involvement process undertaken as part of the EIS, a build alternative utilizing an existing roadway was proposed and will be studied in the EIS. This alternative represents an approximate 12 mile connector to link existing I-49 at its junction with Louisiana Highway 3132 to future I-49 North at its proposed junction with I-220. This NOI revises the NOI issued on February 8, 2012.

FOR FURTHER INFORMATION CONTACT: Charles Bolinger, Division Administrator, Louisiana Division, Federal Highway Administration, 5304 Flanders Drive, Suite A, Baton Rouge, LA 70808 Telephone: 225-757-7600. See also the project Web site at http://www.i49shreveport.com.

SUPPLEMENTARY INFORMATION: The FHWA, in cooperation with the Louisiana Department of Transportation and Development (DOTD) and the Northwest Louisiana Council of Governments (NLCOG), is preparing an EIS on a proposal to construct the I-49 Inner City Connector.

The I-49 Inner City Connector is freeway designed to connect existing I-49 to future I-49 North at its proposed junction with I-220 in Shreveport, Louisiana. The project's purpose and need are to provide connectivity between existing I-49 and future I-49 and is intended to improve economic opportunities by providing increased access to the interstate system. Alternatives currently under consideration include: (1) Taking no action; (2) constructing an elevated freeway on new location; (3) constructing a freeway that is partly elevated and partly at-grade on new location; and (4) upgrade and modification of existing roadways. Build alternatives for the I-49 Inner City Connector involve a travel distance of approximately three and one-half miles up to approximately 12 miles. Incorporated into and studied with the various build alternatives will be design variations of grade and alignment.

Letters describing the proposed action and soliciting comments were sent to appropriate Federal, State, and local agencies, and to private organizations and citizens who have previously expressed or are known to have interest in this proposal. A series of Public Meetings were held at various locations in Shreveport in December 2011 and December 2012 to discuss the four build alternatives under consideration. An additional round of Public Meetings will be held in early 2014 to present the new build alternative along with the four original build alternatives. A Public Hearing will also be held. Public notice will be given of the time and place of the meetings and hearing. The draft EIS will be available for public and agency review and comment prior to the Public Hearing. A formal scoping meeting was held at NLCOG on October 18, 2011, when the project was approved to move forward as an Environmental Assessment. On December 1 2011, FHWA determined the required class of action to comply with the NEPA process as an Environmental Impact Statement. Additional public scoping was conducted during the Public Meetings held in December 2011.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: November 8, 2013.
Charles W. Bolinger,
Division Administrator, Baton Rouge, Louisiana.

[FR Doc. 2013-27788 Filed 11-19-13; 8:45 am]

BILLING CODE 4910-22-P